DEPARTMENT OF VETERANS AFFAIRS

Genomic Medicine Program Advisory Committee; Notice of Meeting

The Department of Veterans Affairs (VA) gives notice under Public Law 92-463 (Federal Advisory Committee Act) that the Genomic Medicine Program Advisory Committee will meet on November 2, 2011, at the Hamilton Crowne Plaza, 14th and K Streets, NW., Washington, DC. The meeting will convene at 8 a.m. and adjourn at 4 p.m. The meeting is open to the public.

The purpose of the Committee is to provide advice and make recommendations to the Secretary of Veterans Affairs on using genetic information to optimize medical care of Veterans and to enhance development of tests and treatments for diseases particularly relevant to Veterans.

The Committee will receive program updates and will continue to provide insight into optimal ways for VA to incorporate genomic information into its health care program while applying appropriate ethical oversight and protecting the privacy of Veterans. The meeting focus will be on current and upcoming biological informatics technologies and platforms, and their implications for genomic data and health care. The Committee will continue discussions on the potential impact of whole genome data on clinical decisionmaking. The Committee will also receive an update on the status of the ongoing Million Veteran Program. In the afternoon, the Committee will receive public comments limited to 5 minutes each. Individuals who speak are invited to submit 1-2 page summaries of their comments at the time of the meeting for inclusion in the official meeting record. Members may also submit written statements for the Committee's review to Dr. Sumitra Muralidhar, Designated Federal Official, Department of Veterans Affairs (10P9B), 810 Vermont Avenue, NW., Washington, DC 20420, or e-mail at Sumitra.muralidhar@va.gov. Any member of the public wishing to attend the meeting or seeking additional information should contact Dr. Sumitra Muralidhar at (202) 443-5679.

Dated: October 18, 2011.
By Direction of the Secretary.
Vivian Drake,
Committee Management Officer.

[FR Doc. 2011-27291 Filed 10-20-11; 8:45 am]

BILLING CODE P